DEPARTMENT OF COMMERCE

National Oceanic and Atmospheric Administration

[RTID XA977]

Caribbean Fishery Management Council; Public Meetings

AGENCY: National Marine Fisheries Service (NMFS), National Oceanic and Atmospheric Administration (NOAA), Commerce.

ACTION: Notice of public meetings.

SUMMARY: The Caribbean Fishery Management Council's (Council) District Advisory Panels (DAPs) will hold public virtual meetings to address the items contained in the tentative agenda included in the SUPPLEMENTARY INFORMATION.

DATES: The DAPs public virtual meetings will be held as follows: St. Thomas/St. John DAP, April 19, 2021, from 10 a.m. to 12 p.m.; St. Croix DAP, April 19, 2021, from 1 p.m. to 3 p.m.; Puerto Rico DAP, April 20, 2021, from 10 a.m. to 12 p.m. All meetings will be at Atlantic Standard Time (AST).

ADDRESSES: You may join the DAPs public virtual meetings (via Zoom) from a computer, tablet or smartphone by entering the following addresses:

DAP-STT/STJ

Join Zoom Meeting

https://us02web.zoom.us/j/86262657165?pwd=aGQ4U25rME92d1p1TWo4d3Y3RGFrdz09

Meeting ID: 862 6265 7165

Passcode: 901759

One tap mobile

+17879451488,,86262657165#,,,,*901759# Puerto Rico

+17879667727,,86262657165#,,,,*901759# Puerto Rico

Dial by your location

+1 787 945 1488 Puerto Rico

+1 787 966 7727 Puerto Rico

+1 939 945 0244 Puerto Rico

Meeting ID: 862 6265 7165

Passcode: 901759

DAP-PR

Join Zoom Meeting

https://us02web.zoom.us/j/86222659918?pwd=UitRcnBJRXQyMUpWaEtISEZ6elVvQT09

Meeting ID: 862 2265 9918

Passcode: 623876

One tap mobile

+19399450244,,86222659918#,,,,*623876# Puerto Rico

+17879451488,,86222659918#,,,,*623876# Puerto Rico

Dial by your location

+1 939 945 0244 Puerto Rico

+1 787 945 1488 Puerto Rico

+1 787 966 7727 Puerto Rico

Meeting ID: 862 2265 9918

Passcode: 623876

DAP-STX

Join Zoom Meeting

https://us02web.zoom.us/j/84523918830?pwd=ZWdleXVrN2VzRW5MdVdJOStBZVRNQT09

Meeting ID: 845 2391 8830

Passcode: 507957

One tap mobile

+17879451488,,84523918830#,,,,*507957# Puerto Rico

+17879667727,,84523918830#,,,,*507957# Puerto Rico

Dial by your location

+1 787 945 1488 Puerto Rico

+1 787 966 7727 Puerto Rico

+1 939 945 0244 Puerto Rico

Meeting ID: 845 2391 8830

Passcode: 507957

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The following items included in the tentative agenda are:

—Call to Order

—Roll Call

—Adoption of Agenda

—Latest Draft of the Ecosystem Model

—Island-Based FMP Implementation and Possible Amendments

—Other Business

All three meetings will be discussing the same agenda items.

Other than the starting date and time the order of business may be adjusted as necessary to accommodate the completion of agenda items, at the discretion of the Chair. The meetings will begin on April 19, 2021 at 10 a.m. AST, and will end on April 20, 2021, at 12 p.m. AST.

Special Accommodations

Simultaneous interpretation will be provided for the DAP-PR, on April 20, 2021.

Se proveerá interpretación en español.

Para interpretación en español puede marcar el siguiente número para entrar a la reunión: US/Canadá: llame al +1-888-947-3988, cuando el sistema conteste, entrar el número 1*999996#.

For English interpretation you may dial the following number to enter the meeting: US/Canada: call +1-888-947-3988, when the system answers enter the number 2*999996#.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: March 30, 2021.
Tracey L. Thompson,
Acting Deputy Director, Office of Sustainable Fisheries, National Marine Fisheries Service.

[FR Doc. 2021-06835 Filed 4-1-21; 8:45 am]

BILLING CODE 3510-22-P